NUCLEAR REGULATORY COMMISSION

[NRC-2025-1402]

Monthly Notice; Applications and Amendments to Facility Operating Licenses and Combined Licenses Involving No Significant Hazards Considerations

AGENCY: Nuclear Regulatory Commission.

ACTION: Monthly notice.

SUMMARY: Pursuant to section 189a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by October 30, 2025. A request for a hearing or petitions for leave to intervene must be filed by December 1, 2025. This monthly notice includes all amendments issued, or proposed to be issued, from August 15, 2025, to September 11, 2025. The last monthly notice was published on September 2, 2025.

ADDRESSES: You may submit comments by any of the following methods (unless this document describes a different method for submitting comments on a specific subject); however, the NRC encourages electronic comment submission through the Federal rulemaking website.

• Federal rulemaking website: Go to https://www.regulations.gov and search for Docket ID NRC-2025-1402. Address questions about Docket IDs in Regulations.gov to Bridget Curran; telephone: 301-415-1003; email: Bridget.Curran@nrc.gov. For technical questions, contact the individual(s) listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Karen Zeleznock, Office of Nuclear Reactor Regulation, U.S. Nuclear Regulatory Commission, Washington, DC 20555-0001; telephone: 301-415-1118; email: Karen.Zeleznock@nrc.gov.

SUPPLEMENTARY INFORMATION:

I. Obtaining Information and Submitting Comments

A. Obtaining Information

Please refer to Docket ID NRC-2025-1402, facility name, unit number(s), docket number(s), application date, and subject when contacting the NRC about the availability of information for this action. You may obtain publicly available information related to this action by any of the following methods:

• Federal Rulemaking Website: Go to https://www.regulations.gov and search for Docket ID NRC-2025-1402.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2025-1402, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056), and on the NRC's public website (https://www.nrc.gov/site-help/e-submittals.html).

To comply with the procedural requirements of E-Filing, at least 10 days prior to the filing deadline, the participant should contact the Office of the Secretary by email at Hearing.Docket@nrc.gov, or by telephone at 301-415-1677, to: (1) request a digital identification (ID) certificate which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket is created, the participant must submit adjudicatory documents in the Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed in order to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless otherwise excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the nuclear power plant names, docket numbers, dates of application, ADAMS accession numbers, and locations in the application of the licensees' proposed NSHC determination. For further details with respect to these license amendment applications, see the applications for amendment, publicly available portions of which are available for public inspection in ADAMS. For additional direction on accessing information related to this document, see the “Obtaining Information and Submitting Comments” section of this document.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Constellation Energy Generation, LLC ; Christopher M. Crane Clean Energy Center; Dauphin County
Docket No | 50-289.
Application date | June 27, 2025.
ADAMS Accession No | ML25178A294.
Location in Application of NSHC | Pages 7-8 of Attachment 2.
Brief Description of Amendment | The proposed amendment would revise the facility license and technical specifications to allow receipt and possession of new reactor fuel and new sealed neutron sources at the Christopher M. Crane Clean Energy Center.
Proposed Determination | NSHC.
Name of Attorney for Licensee, Mailing Address | Jason Zorn, Associate General Counsel, Constellation Energy Generation, LLC, 101 Constitution Ave. NW, Suite 400 East, Washington, DC 20001.
NRC Project Manager, Telephone Number | Brent Ballard, 301-415-0680.
Nine Mile Point Nuclear Station, LLC and Constellation Energy Generation, LLC; Nine Mile Point Nuclear Station, Unit 1; Oswego County, NY
Docket No | 50-220.
Application date | July 28, 2025.
ADAMS Accession No | ML25209A502.
Location in Application of NSHC | Pages 4-5 of Attachment 1.
Brief Description of Amendment | The proposed amendment would revise the technical specification (TS) surveillance requirements for verifying the operability of the remaining emergency diesel generator (EDG) when the other EDG is inoperable. The licensee proposes to make the TS change consistent with NUREG-1433, Revision 5, “Standard Technical Specifications—General Electric Plants, BWR [boiling water reactor]/4.”
Proposed Determination | NSHC.
Name of Attorney for Licensee, Mailing Address | Jason Zorn, Associate General Counsel, Constellation Energy Generation, LLC, 101 Constitution Ave. NW, Suite 400 East, Washington, DC 20001.
NRC Project Manager, Telephone Number | Richard Guzman, 301-415-1030.
Northern States Power Company; Prairie Island Nuclear Generating Plant, Units 1 and 2; Goodhue County, MN
Docket Nos | 50-282, 50-306.
Application date | September 3, 2025.
ADAMS Accession No | ML25209A502.
Location in Application of NSHC | Pages 3-5 of the Enclosure.
Brief Description of Amendments | The proposed amendments request adoption of the Technical Specification Task Force (TSTF) Traveler, TSTF-554, Revision 1, “Revise Reactor Coolant Leakage Requirements,” which is an approved change to the Standard Technical Specifications. TSTF-554 would revise the TS definition of “Leakage,” clarify the requirements when pressure boundary leakage is detected and add a Required Action when pressure boundary leakage is identified.
Proposed Determination | NSHC.
Name of Attorney for Licensee, Mailing Address | Andrew Van Duzer, Assistant General Counsel, Xcel Energy, 701 Pennsylvania Ave. NW, Suite 250, Washington, DC 20004.
NRC Project Manager, Telephone Number | Beth Wetzel, 301-415-5223.
Pacific Gas and Electric Company; Diablo Canyon Nuclear Power Plant, Units 1 and 2; San Luis Obispo County, CA
Docket Nos | 50-275, 50-323.
Application date | July 31, 2025.
ADAMS Accession No | ML25212A192.
Location in Application of NSHC | Pages 20-22 of the Enclosure.
Brief Description of Amendments | The proposed amendments would revise Technical Specification (TS) 3.8.1, “AC [Alternating Current] Sources—Operating,” for the Diablo Canyon Nuclear Power Plant, Units 1 and 2, using Risk-Informed Process for Evaluations (RIPE). The licensee proposed to revise TS 3.8.1 for low-risk situations. The RIPE process is an NRC staff approved risk-informed method that is used to disposition submittals of very low safety significance.
Proposed Determination | NSHC.
Name of Attorney for Licensee, Mailing Address | Jennifer Post, Esq., Pacific Gas and Electric Co., 77 Beale Street, Room 3065, Mail Code B30A, San Francisco, CA 94105.
NRC Project Manager, Telephone Number | Samson Lee, 301-415-3168.
Pacific Gas and Electric Company; Diablo Canyon Nuclear Power Plant, Units 1 and 2; San Luis Obispo County, CA
Docket Nos | 50-275, 50-323.
Application date | July 31, 2025.
ADAMS Accession No | ML25213A095.
Location in Application of NSHC | Pages 10-12 of the Enclosure.
Brief Description of Amendments | The proposed amendments would revise Technical Specification 3.7.12, “Auxiliary Building Ventilation System (ABVS),” for Diablo Canyon Nuclear Power Plant, Units 1 and 2, to prevent unnecessary unit shutdowns for a low-risk scenario.
Proposed Determination | NSHC.
Name of Attorney for Licensee, Mailing Address | Jennifer Post, Esq., Pacific Gas and Electric Co., 77 Beale Street, Room 3065, Mail Code B30A, San Francisco, CA 94105.
NRC Project Manager, Telephone Number | Samson Lee, 301-415-3168.
R. E. Ginna Nuclear Power Plant, LLC and Constellation Energy Generation, LLC; R. E. Ginna Nuclear Power Plant; Wayne County, NY
Docket No | 50-244.
Application date | July 18, 2025.
ADAMS Accession No | ML25202A072.
Location in Application of NSHC | Pages 10-11 of Attachment 1.
Brief Description of Amendment | The proposed amendment requests adoption of three Technical Specification Task Force (TSTF) Travelers into site-specific technical specifications (TSs) to more accurately align with the Westinghouse Standard Technical Specification (STS) in NUREG-1431, Revision 5. TSTF-51, Revision 2, “Revise Containment Requirements during Handling Irradiated Fuel and Core Alterations,” revises TSs by removing requirements for Engineered Safety Functions. TSTF-471, Revision 1, “Eliminate use of term CORE ALTERATIONS in ACTIONS and NOTES,” eliminates the defined term CORE ALTERATIONS from the remaining instances in the TSs not removed by TSTF-51 and adopts the TSTF-571-T, Revision 0, “Revise Actions for Inoperable Source Range Neutron Flux Monitor.”
Proposed Determination | NSHC.
Name of Attorney for Licensee, Mailing Address | Jason Zorn, Associate General Counsel, Constellation Energy Generation, LLC, 101 Constitution Ave. NW, Suite 400 East, Washington, DC 20001.
NRC Project Manager, Telephone Number | V. Sreenivas, 301-415-2597.
Tennessee Valley Authority; Browns Ferry Nuclear Plant, Units 1, 2, and 3; Limestone County, AL
Docket Nos | 50-259, 50-260, 50-296.
Application date | July 31, 2025.
ADAMS Accession No | ML25212A156.
Location in Application of NSHC | Pages E9-E11 of the Enclosure.
Brief Description of Amendments | The proposed amendments would revise Browns Ferry Nuclear Plant, Units 1, 2, and 3, Technical Specification 3.3.2.1, “Control Rod Block Instrumentation,” to modify Required Action C.2.1.2 to allow an unrestricted number of reactor startups with the rod worth minimizer inoperable while using independent verification of banked position withdrawal sequence compliance.
Proposed Determination | NSHC.
Name of Attorney for Licensee, Mailing Address | Rebecca Tolene (Acting), Executive VP and General Counsel, Tennessee Valley Authority, 400 West Summit Hill Drive, WT 6A, Knoxville, TN 37902.
NRC Project Manager, Telephone Number | Kimberly Green, 301-415-1627.
Vistra Operations Company LLC; Perry Nuclear Power Plant, Unit 1; Lake County, OH
Docket No | 50-440.
Application date | August 19, 2025.
ADAMS Accession No | ML25231A303.
Location in Application of NSHC | Pages 2-3 of Attachment 1.
Brief Description of Amendment | The proposed amendment requests adoption of Technical Specifications Task Force (TSTF) Traveler, TSTF-597, Revision 0, “Eliminate LCO [Limiting Condition for Operation] 3.0.3 Mode 2 Requirement.” TSTF-597 would revise LCO 3.0.3 to eliminate the requirement to enter Mode 2.
Proposed Determination | NSHC.
Name of Attorney for Licensee, Mailing Address | Roland Backhaus, Senior Lead Counsel-Nuclear, Vistra Corp., 325 7th Street NW, Suite 520, Washington, DC 20004.
NRC Project Manager, Telephone Number | Scott Wall, 301-415-2855.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuances
Constellation Energy Generation, LLC; Braidwood Station, Units 1 and 2, Will County, IL; Byron Station, Unit Nos. 1 and 2, Ogle County, IL
Docket Nos | 50-456, 50-457, 50-454, 50-455.
Amendment Date | August 21, 2025.
ADAMS Accession No | ML25153A008.
Amendment Nos | 242 (Braidwood, Unit 1), 242 (Braidwood, Unit 2); 240 (Byron, Unit 1), 240 (Byron, Unit 2).
Brief Description of Amendments | The amendments revised the Braidwood and Byron technical specifications to allow loading of Framatome, Inc GAIA fuel with M5Framatome as a fuel cladding material. Since the GAIA fuel uses M5Framatome fuel rod cladding, the licensee included a 10 CFR 50.46 and 10 CFR part 50, appendix K exemption request as a part of the license amendment request. The NRC staff reviewed the exemption request in a separate safety evaluation dated August 21, 2025.
Public Comments Received as to Proposed NSHC (Yes/No) | No.
Constellation Energy Generation, LLC; Clinton Power Station, Unit No. 1; DeWitt County, IL
Docket No | 50-461.
Amendment Date | September 8, 2025.
ADAMS Accession No | ML25239B557.
Amendment No | 257.
Brief Description of Amendment | The amendment authorized revision to the Clinton Updated Safety Analysis Report to implement an alternate methodology of verifying Reactor Protection System Response Time for Main Steam Isolation Valve Closure as an NRC-approved methodology.
Public Comments Received as to Proposed NSHC (Yes/No) | No.
Entergy Operations, Inc.; Arkansas Nuclear One, Unit 2; Pope County, AR; Entergy Operations, Inc.; Waterford Steam Electric Station, Unit 3; St. Charles Parish, LA
Docket Nos | 50-368, 50-382.
Amendment Date | August 18, 2025.
ADAMS Accession No | ML25218A145.
Amendment Nos | 337 (ANO-2) and 276 (Waterford).
Brief Description of Amendments | The amendments revised the Arkansas Nuclear One, Unit 2, and Waterford Steam Electric Station, Unit 3, technical specifications to eliminate the requirements for automatic diesel generator start and loading during plant shutdown. The changes were consistent with Technical Specifications Task Force (TSTF) Traveler, TSTF-589, Revision 0, “Eliminate Automatic Diesel Generator Start During Shutdown.”
Public Comments Received as to Proposed NSHC (Yes/No) | No.
ESADA Vallecitos Experimental Superheat Reactor, Alameda County, CA
Docket No | 50-183.
Amendment Date | August 19, 2025.
ADAMS Accession No | ML25199A084 (Package).
Amendment No | 8.
Brief Description of Amendment | The NRC reviewed an application submitted by NorthStar Vallecitos, LLC which sought to accept the in-situ radioactive material from the Vallecitos Boiling Water Reactor license (License No. DPR-1) into Facility License No. DR-10. Upon completing its review, the NRC staff determined that the request complies with the standards and requirements of the Atomic Energy Act of 1954, as amended (the Act), as well as the NRC's rules and regulations. The NRC prepared a safety evaluation report documenting its review and evaluation. The NRC determined that approving the request satisfies the categorical exclusion criteria in 10 CFR 51.22.
Public Comments Received as to Proposed NSHC (Yes/No) | No.
National Institute of Standards and Technology (NIST), National Bureau of Standards Test Reactor, Montgomery County, Maryland
Docket No | 50-184.
Amendment Date | August 19, 2025.
ADAMS Accession No | ML25189A444.
Amendment No | 16.
Brief Description of Amendment | The amendment revised the technical specifications to eliminate the ability to bypass either the inner or outer plenum flow scram channels during forced flow operation and to require surveillances for both the inner and outer flow scram channels.
Public Comments Received as to Proposed NSHC (Yes/No) | No.
Pacific Gas and Electric Company; Diablo Canyon Nuclear Power Plant, Units 1 and 2; San Luis Obispo County, CA
Docket Nos | 50-275, 50-323.
Amendment Date | August 13, 2025.
ADAMS Accession No | ML25174A192.
Amendment Nos | 252 (Unit 1) and 254 (Unit 2).
Brief Description of Amendments | The amendments modified Technical Specifications (TS) 4.2.1, “Fuel Assemblies,” and TS 5.6.5 “Core Operating Limits Report (COLR),” to allow the use of Optimized ZIRLO as an approved fuel rod cladding material for improved fuel rod cladding performance.
Public Comments Received as to Proposed NSHC (Yes/No) | No.
Pacific Gas and Electric Company; Diablo Canyon Nuclear Power Plant, Units 1 and 2; San Luis Obispo County, CA
Docket Nos | 50-275, 50-323.
Amendment Date | August 21, 2025.
ADAMS Accession No | ML25230A133.
Amendment Nos | 253 (Unit 1) and 255 (Unit 2).
Brief Description of Amendments | The amendments revised Technical Specification (TS) 1.1, “Definitions,” and added TS 5.5.21, “Online Monitoring Program,” to use online monitoring methodology, which provides controls to determine the need for calibration of transmitters using condition monitoring.
Public Comments Received as to Proposed NSHC (Yes/No) | No.
Southern Nuclear Operating Company, Inc.; Edwin I. Hatch Nuclear Plant, Units 1 and 2; Appling County, GA
Docket Nos | 50-321, 50-366.
Amendment Date | September 5, 2025.
ADAMS Accession No | ML25224A024.
Amendment Nos | 329 (Unit 1) and 274 (Unit 2).
Brief Description of Amendments | The amendments modified the Edwin I. Hatch Nuclear Plant, Units 1 and 2, technical specifications to adopt Technical Specifications Task Force Traveler-584 (TSTF-584) “Eliminate Automatic RWCU [reactor water cleanup] System Isolation on SLC [standby liquid control] Initiation.” Specifically, the amendments removed the requirement that the Reactor Water Cleanup System automatically isolate on manual initiation of the Standby Liquid Control System.
Public Comments Received as to Proposed NSHC (Yes/No) | No.
Southern Nuclear Operating Company, Inc.; Vogtle Electric Generating Plant, Units 3 and 4; Burke County, GA
Docket Nos | 52-025, 52-026.
Amendment Date | August 25, 2025.
ADAMS Accession No | ML25219A046.
Amendment Nos | 205 (Unit 3) and 203 (Unit 4).
Brief Description of Amendments | The amendments removed the Table of Contents from the technical specifications and relocated it to a licensee controlled document, as described in their submittal.
Public Comments Received as to Proposed NSHC (Yes/No) | No.
Southern Nuclear Operating Company, Inc.; Vogtle Electric Generating Plant, Units 3 and 4; Burke County, GA
Docket Nos | 52-025, 52-026.
Amendment Date | September 2, 2025.
ADAMS Accession No | ML25230A081.
Amendment Nos | 206 (Unit 3), 204 (Unit 4).
Brief Description of Amendments | The amendments moved Surveillance Requirements from Technical Specification (TS) 3.3.15, “Engineered Safety Feature Actuation System (ESFAS) Actuation Logic—Operating,” and TS 3.3.16, “Engineered Safety Feature Actuation System (ESFAS) Actuation Logic—Shutdown,” to other existing and new TS Limiting Conditions for Operation.
Public Comments Received as to Proposed NSHC (Yes/No) | No.
Southern Nuclear Operating Company, Inc.; Vogtle Electric Generating Plant, Units 3 and 4; Burke County, GA
Docket Nos | 52-025, 52-026.
Amendment Date | September 10, 2025.
ADAMS Accession No | ML25232A194.
Amendment Nos | 208 (Unit 3) and 206 (Unit 4).
Brief Description of Amendments | The amendments revised the Vogtle Electric Generating Plant, Units 3 and 4, Technical Specification Table 3.3.8-1, “Engineered Safeguards Actuation System Instrumentation,” by removing the Mode 2 applicability for the Source Range Neutron Flux Doubling instrumentation (Function 17) and its associated footnote. Additionally, the amendments corrected an administrative typo in Table 3.3.8-1, Function 22.
Public Comments Received as to Proposed NSHC (Yes/No) | No.
Tennessee Valley Authority; Browns Ferry Nuclear Plant, Units 1, 2, and 3; Limestone County, AL
Docket Nos | 50-259, 50-260, 50-296.
Amendment Date | September 8, 2025.
ADAMS Accession No | ML25241A019.
Amendment Nos | 336 (Unit 1), 359 (Unit 2), 319 (Unit 3).
Brief Description of Amendments | The amendments revised the Browns Ferry Nuclear Plant, Units 1, 2, and 3, Technical Specification Surveillance Requirement 3.8.4.5 to modify the minimum battery charger capacity for the direct current shutdown board subsystems.
Public Comments Received as to Proposed NSHC (Yes/No) | No.
Vistra Operations Company LLC; Comanche Peak Nuclear Power Plant, Unit No. 1; Somervell County, TX; Vistra Operations Company LLC; Comanche Peak Nuclear Power Plant, Unit No. 2; Somervell County, TX
Docket Nos | 50-445, 50-446.
Amendment Date | August 27, 2025.
ADAMS Accession No | ML25213A183.
Amendment Nos | 193 (Unit 1) and 193 (Unit 2).
Brief Description of Amendments | The amendments revised technical specifications (TSs) to eliminate use of the defined term “CORE ALTERATIONS” and revised requirements during handling of irradiated fuel by adopting Technical Specifications Task Force (TSTF) travelers TSTF-51-A, Revision 2 (TSTF-51), “Revise containment requirements during handling irradiated fuel and core alterations”; TSTF-471-A, Revision 1 (TSTF-471), “Eliminate use of term CORE ALTERATIONS in ACTIONS and Notes”; and TSTF-571-T, Revision 0 (TSTF-571), “Revise Actions for Inoperable Source Range Neutron Flux Monitor.”
Public Comments Received as to Proposed NSHC (Yes/No) | No.

IV. Notice of Issuance of Amendments to Facility Operating Licenses and Combined Licenses and Final Determination of No Significant Hazards Consideration and Opportunity for a Hearing (Exigent Circumstances or Emergency Situation)

Since publication of the last monthly notice, the Commission has issued the following amendments. The Commission has determined for these amendments that the applications for the amendments comply with the standards and requirements of the Atomic Energy Act of 1954, as amended (the Act), and the Commission's rules and regulations. The Commission has made appropriate findings as required by the Act and the Commission's rules and regulations in 10 CFR chapter I, which are set forth in the license amendments.

Because of exigent circumstances or an emergency situation associated with the date the amendment was needed, there was not time for the Commission to publish, for public comment before issuance, its usual notice of consideration of issuance of amendment, proposed NSHC determination, and opportunity for a hearing.

In circumstances where failure to act in a timely way would have resulted, for example, in derating or shutdown of a nuclear power plant or in prevention of either resumption of operation or of increase in power output up to the plant's licensed power level (an emergency situation), the Commission may not have had an opportunity to provide for public comment on its NSHC determination. In such case, the license amendment has been issued without opportunity for comment prior to issuance. Nonetheless, the State has been consulted by telephone whenever possible.

Under its regulations, the Commission may issue and make an amendment immediately effective, notwithstanding the pendency before it of a request for a hearing from any person, in advance of the holding and completion of any required hearing, where it has determined that NSHC is involved. The Commission has applied the standards of 10 CFR 50.92 and has made a final determination that the amendments involve NSHC. The basis for this determination is contained in the NRC staff safety evaluation related to each action. Accordingly, the amendment has been issued and made effective as indicated.

For those amendments that involve an emergency situation, the Commission is now providing an opportunity to comment on the final NSHC determination for each action; comments should be submitted in accordance with Section I of this notice within 30 days of the date of this notice. Any comments received within 30 days of the date of publication this notice will be considered.

For those amendments that have not been previously noticed in the Federal Register, within 60 days after the date of publication of this notice, any persons (petitioner) whose interest may be affected by this action may file a request for a hearing and petition for leave to intervene (petition) with respect to the action. Petitions shall be filed in accordance with the guidance concerning the Commission's “Agency Rules of Practice and Procedure” in 10 CFR part 2 as discussed in section II.A of this document.

Unless otherwise indicated, the Commission has determined that the amendment satisfies the criteria for categorical exclusion in accordance with 10 CFR 51.22. Therefore, pursuant to 10 CFR 51.22(b), no environmental impact statement or environmental assessment need be prepared for this amendment. If the Commission has prepared an environmental assessment under the special circumstances provision in 10 CFR 51.12(b) and has made a determination based on that assessment, it is so indicated in the safety evaluation for the amendment.

For further details with respect to these actions, see the amendment and associated documents such as the Commission's letter and safety evaluation, which may be obtained using the ADAMS accession numbers indicated in the following table. The safety evaluation will provide the ADAMS accession number(s) for the application for amendment and the Federal Register citation for any environmental assessment. All of these items can be accessed as described in the “Obtaining Information and Submitting Comments” section of this document.

License Amendment Issuances—Emergency Circumstances
Southern Nuclear Operating Company, Inc.; Vogtle Electric Generating Plant, Unit 4; Burke County, GA
Docket No | 52-026.
Amendment Date | August 15, 2025.
ADAMS Accession No | ML25225A229.
Amendment No | 202.
Brief Description of Amendments | The amendment revised Technical Specification (TS) 3.5.2, “Core Makeup Tanks (CMTs)—Operating,” to add a note to the Limiting Condition for Operation (LCO) and another note in Surveillance Requirement (SR) 3.5.2.4 regarding boron concentration, as well as made editorial changes. The amendment temporarily revised the TS 3.5.2 to reduce the minimum allowable CMT “A” boron concentration and to not require performance of SR 3.5.2.4 until startup from the first Vogtle, Unit 4, refueling outage (RFO), which is scheduled for the fall of 2025. The amendment is a one-time temporary change, and is effective until startup from the first Vogtle, Unit 4, RFO.
Local Media Notice (Yes/No) | No.
Public Comments Requested as to Proposed NSHC (Yes/No) | No.
Vistra Operations Company LLC; Davis-Besse Nuclear Power Station, Unit 1; Ottawa County, OH
Docket No | 50-346.
Amendment Date | August 17, 2025.
ADAMS Accession No | ML25229A002.
Amendment No | 308.
Brief Description of Amendments | The amendment revised Technical Specification (TS) 3.3.9 to Source Range Neutron Flux, to allow the use of alternate neutron instrumentation during startup from the current forced outage and through the end of the current operating cycle (Cycle 24), which is scheduled to end in March 2026. The license amendment was issued under emergency circumstances as provided in the provisions of 10 CFR 50.91(a)(5) due to the time critical nature of the amendment.
Local Media Notice (Yes/No) | No.
Public Comments Requested as to Proposed NSHC (Yes/No) | No.

Dated: September 17, 2025.
For the Nuclear Regulatory Commission.
Hipolito Gonzalez,
Acting Deputy Director, Division of Operating Reactor Licensing, Office of Nuclear Reactor Regulation.

[FR Doc. 2025-18974 Filed 9-29-25; 8:45 am]

BILLING CODE 7590-01-P